DEPARTMENT OF COMMERCE

National Oceanic and Atmospheric Administration

[RTID 0648-XC299]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Protected Resources Committee will hold a public meeting via webinar.

DATES: The meeting will be held on Wednesday, September 14, 2022, from 1 p.m. to 4:30 p.m. See SUPPLEMENTARY INFORMATION for agenda details.

ADDRESSES: The meeting will be held via webinar. Details on the agenda, webinar listen-in access, and briefing materials will be posted at the MAFMC's website: www.mafmc.org.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council's Protected Resources Committee will meet to review materials for phase two of the Atlantic Large Whale Take Reduction Plan which focuses on reducing the risk of entanglement to right, humpback, and fin whales in U.S. East Coast gillnet, Atlantic mixed species trap/pot, and Mid-Atlantic lobster and Jonah crab trap/pot fisheries. The measures developed in phase two of this plan have the potential to impact several Council managed fisheries and the Protected Resources Committee will develop recommendations and guidance for the Council's representation on the Atlantic Large Whale Take Reduction Team. This team is making final recommendations at their September 19 and 22, 2022 meetings. The Protected Resources Committee will also review and provide comments on the proposed North Atlantic Right Whale Vessel Strike Reduction Rule. The Committee may address other protected resources issues as they arise.

Special Accommodations

The meeting is physically accessible to people with disabilities. Requests for sign language interpretation or other auxiliary aids should be directed to Shelley Spedden at the Council Office, (302) 526-5251, at least 5 days prior to the meeting date.

Authority: 16 U.S.C. 1801 et seq.

Dated: August 24, 2022.
Rey Israel Marquez,
Acting Deputy Director, Office of Sustainable Fisheries, National Marine Fisheries Service.

[FR Doc. 2022-18596 Filed 8-29-22; 8:45 am]

BILLING CODE 3510-22-P